DEPARTMENT OF LABOR

Employment and Training Administration

Proposed Information Collection for the Evaluation of the Community-Based Job Training Grants; Comment Request

AGENCY: Employment and Training Administration.

ACTION: Notice.

SUMMARY: The Department of Labor, as part of its continuing effort to reduce paperwork and respondent burden conducts a pre-clearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments on a new data collection for the Evaluation of the Community-Based Job Training Grants.

A copy of the proposed information collection request can be obtained by contacting the office listed below in the addressee section of this notice or by accessing: http://www.doleta.gov/OMBCN/OMBControlNumber.cfm.

DATES: Written comments must be submitted to the office listed in the addressee's section below on or before July 6, 2010.

ADDRESSES: Submit written comments to the Employment and Training Administration, Room N-5641, 200 Constitution Avenue, NW., Washington, DC 20210, Attention: Garrett Groves, Telephone number: 202-693-3684 (this is not a toll-free number), Fax number: 202-693-2766. E-mail: Groves.Garrett@DOL.gov.

SUPPLEMENTARY INFORMATION:

I. Background

The Community-Based Job Training Grants (CBJTG) program is sponsored by ETA as an investment in building the capacity of community colleges to train workers in the skills required to succeed in high-growth, high-demand industries. CBJTG provides grants for the development and implementation of industry-specific job training programs at community colleges to meet the workforce needs of industry, including health care, energy, and advanced manufacturing, among others. Over 200 grants were issued from 2005 through 2008 in three rounds of grant competition, with a fourth round of grants awarded in early 2009. Grant recipients are primarily community and technical colleges, although in the later rounds of grants, some community college districts, State community college systems and organizations and agencies within the public workforce investment system were awarded grants.

ETA has contracted with the Urban Institute, a non-profit, non-partisan, research organization based in Washington, DC, to conduct an evaluation of the CBJTG program. The evaluation will mainly be based on data collected through a survey of grant recipients as well as a review of grant documents and exploratory site visits to a small number of grant projects. The survey data collected through this effort are the main data source for this study and will provide a comprehensive picture of the different grant-funded projects and identify grant implementation issues to date.

The survey will be administered to all grantees receiving awards in the first three rounds. To reduce respondent burden, the survey will be administered in a Web-based format that allows for automatic skip patterns. Grantees will also have the option to complete and return a paper version. Survey data will be complemented by data collected through ETA's existing quarterly reporting system to avoid any duplication and further reduce reporting burden for respondents. The survey will gather data on grantee organization type, size, and structure, project design and objectives, recruitment efforts and target populations, training and other program activities, capacity-building activities, partners' contributions and activities, and plans for sustaining programming and leveraging resources.

II. Review Focus

The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submissions of responses.

III. Current Actions

Type of Review: New.

Agency: Employment and Training Administration.

Title: Evaluation of the Community-Based Job Training Grants.

OMB Number: 1205-0NEW.

Record Keeping: N/A.

Affected Public: Community-Based Job Training Grantees.

Total Respondents: 190.

Frequency: Once.

Total Annual Responses: 190.

Average Time per Response: 40 minutes.

Estimated Total Burden Hours: 126.67 hours.

Total Burden Cost: The estimated total burden cost is $4,862.89 as shown below:

Category | Estimated number of respondents | Total hours | Median hourly wage | Total annualized cost
Postsecondary education administrators (95.3 percent of respondents) | 181 | 120.67 | $38.79 | $4,680.79
Local government social and community service managers (4.7 percent of respondents) | 9 | 6.00 | 30.35 | 182.10
Total |  | 126.67 |  | 4,862.89

Comments submitted in response to this comment request will be summarized and/or included in the request for Office of Management and Budget approval of the information collection request; they will also become a matter of public record.

Signed: At Washington, DC this 30th day of April, 2010.
Jane Oates,
Assistant Secretary, Employment and Training Administration.

[FR Doc. 2010-10603 Filed 5-5-10; 8:45 am]

BILLING CODE 4510-FN-P